NATIONAL CREDIT UNION ADMINISTRATION

SUNSHINE ACT; NOTICE OF AGENCY MEETING

TIME AND DATE: 10 a.m., Friday, September 24, 2010.

PLACE: Board Room, 7th Floor, Room 7047, 1775 Duke Street, Alexandria, VA 22314-3428.

STATUS: Closed.

MATTERS TO BE CONSIDERED: 1. Consideration of Supervisory Activities (7). Closed pursuant to exemptions (8), (9)(A)(ii) and 9(B).

RECESS: 11:30 a.m.

TIME AND DATE: 2:30 p.m., Friday, September 24, 2010.

PLACE: Board Room, 7th Floor, Room 7047, 1775 Duke Street, Alexandria, VA 22314-3428.

STATUS: Open.

Matters To Be Considered

1. Final Rule—Part 704 of NCUA's Rules and Regulations, Corporate Credit Unions.

2. Delegation of Authority, Corporate Credit Union Service Organizations.

3. Board Briefing, Corporate Credit Unions' Legacy Asset Plan Update.

4. Interpretive Ruling and Policy Statement (IRPS) 10-2, Corporate Federal Credit Union Chartering Guidelines.

FOR FURTHER INFORMATION CONTACT: Mary Rupp, Secretary of the Board, Telephone: 703-518-6304.

Mary Rupp,
Board Secretary.

[FR Doc. 2010-23706 Filed 9-17-10; 4:15 pm]

BILLING CODE P